DEPARTMENT OF VETERANS AFFAIRS

[OMB Control No. 2900-0778]

Agency Information Collection (Disability Benefits Questionnaires—Group 3) Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before June 10, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0778” in any correspondence.

FOR FURTHER INFORMATION CONTACT: Cynthia Harvey-Pryor, Enterprise Records Service (005R1B), Department of Veterans Affairs, 810 Vermont Avenue NW., Washington, DC 20420, (202) 632-7492 or email cynthia.harvey-pryor@va.gov. Please refer to “OMB Control No. 2900-0778” in any correspondence.

SUPPLEMENTARY INFORMATION: Title: Disability Benefits Questionnaires (Group 3).

OMB Control Number: 2900-0778.

Type of Review: Revision of a currently approved collection.

Abstract: The VA Form 21-0960 series is used to gather necessary information from a claimant's treating physician regarding the results of medical examinations. VA will gather medical information related to the claimant that is necessary to adjudicate the claim for VA disability benefits.

An agency may not conduct or sponsor, and a person is not required to respond to a collection of information unless it displays a currently valid OMB control number. The Federal Register Notice with a 60-day comment period soliciting comments on this collection of information was published on February 17, 2016, at pages 8129 and 8130.

Affected Public: Individuals or households.

Estimated Annual Burden: 77,500.

Estimated Average Burden per Respondent:

i. VAF 21-0960C-5—30 minutes

ii. VAF 21-0960C-8—15 minutes

iii. VAF 21-0960C-9—45 minutes

iv. VAF 21-0960G-1—15 minutes

v. VAF 21-0960G-2—15 minutes

vi. VAF 21-0960G-3—15 minutes

vii. VAF 21-0960G-4—15 minutes

viii. VAF 21-0960G-5—30 minutes

ix. VAF 21-0960G-6—15 minutes

x. VAF 21-0960G-7—15 minutes

xi. VAF 21-0960G-8—15 minutes

xii. VAF 21-0960H-2—15 minutes

xiii. VAF 21-0960K-1—15 minutes

xiv. VAF 21-0960K-2—30 minutes

xv. VAF 21-0960L-2—15 minutes

xvi. VAF 21-0960M-11—15 minutes

xvii. VAF 21-0960N-1—15 minutes

Frequency of Response: One time.

Estimated Number of Respondents: 250,000.

By direction of the Secretary.
Kathleen M. Manwell,
Program Analyst, VA Privacy Service, Office of Privacy and Records Management, Department of Veterans Affairs.

[FR Doc. 2016-11049 Filed 5-10-16; 8:45 am]

BILLING CODE 8320-01-P